DEPARTMENT OF HEALTH AND HUMAN SERVICES

Best Practices for Advancing Cultural Competency, Language Access and Sensitivity Toward Asian Americans and Pacific Islanders

AGENCY: Office of Minority Health, Department of Health and Human Services (HHS).

ACTION: Request for information.

SUMMARY: The U.S. Department of Health and Human Services (HHS) Office of Minority Health (OMH) seeks input from Asian American and Pacific Islander (AAPI) communities and AAPI-serving organizations to inform the development of guidance describing best practices for advancing cultural competency, language access, and sensitivity toward Asian Americans and Pacific Islanders in the context of the Federal Government's COVID-19 response. This is NOT a solicitation for proposals or proposal abstracts.

Please note: This request is for information (RFI) and is for planning purposes only. It is not a notice for a proposal and does not commit the federal government to issue a solicitation, make an award, or pay any costs associated with responding to this announcement. All submitted information shall remain with the federal government and will not be returned. All responses will become part of the public record and will not be held confidential. The federal government reserves the right to use information provided by respondents for purposes deemed necessary and legally appropriate. Respondents are advised that the federal government is under no obligation to acknowledge receipt of the information received or provide feedback to respondents with respect to any information submitted. Responses will not be accepted after the due date. After a review of the responses received, a notice of funding opportunity or pre-solicitation synopsis and solicitation may be published.

DATES: To be assured consideration in the development of best practices guidance, written comments must be submitted and received at the address provided below, no later than 11:59 p.m. on August 17, 2021.

ADDRESSES: OMH invites the submission of the requested information through one of the following methods:

• Preferred method: Submit information through the Federal eRulemaking Portal at http://www.regulations.gov. Follow the online instructions for submissions.

• Email: Send comments to minorityhealth@hhs.gov with the subject line “OMH RFI: AAPI Best Practices.”

Submissions received after the deadline will not be reviewed. Respond concisely and in plain language. You may use any structure or layout that presents your information well. You may respond to some or all of our questions, and you can suggest other factors or relevant questions. You may also include links to online material or interactive presentations. Clearly mark any proprietary information and place it in its own section or file. Your response will become government property, and we may publish some of its non-proprietary content.

FOR FURTHER INFORMATION CONTACT: Juliet Bui, 1101 Wootton Parkway, Suite 100, Rockville, MD, 20852, (240) 453-6166, Juliet.Bui@hhs.gov.

SUPPLEMENTARY INFORMATION:

I. Background Information

On January 26, 2021, President Biden issued a Memorandum Condemning and Combating Racism, Xenophobia, and Intolerance against Asian Americans and Pacific Islanders in the United States. The memorandum directed the HHS Secretary, in coordination with the COVID-19 Health Equity Task Force, to consider issuing guidance describing best practices for advancing cultural competency, language access, and sensitivity toward AAPIs in the context of the federal government's COVID-19 response, including best practices set forth by public health organizations and experts for mitigating racially discriminatory language in describing the COVID-19 pandemic. OMH is leading a Departmental response to the memorandum. In accordance with this memorandum, OMH seeks to obtain information that may become part of or inform guidance to be issued regarding best practices.

II. Definitions

For the purposes of this RFI, the following working definitions apply.

Best practices—A practice supported by evidence indicating effectiveness in advancing cultural competence, language access or sensitivity toward AAPIs in the context of the COVID-19 response, generally demonstrated through systematic review, research, evaluation or practice-based evidence. Practices could include interventions, programs, strategies, policies, procedures, processes or other activities.

COVID-19 response—Federal activities including, but not limited to:

• Data collection, utilization and reporting

• Allocation of personal protective equipment (PPE), tests, vaccines, therapeutics and other resources

• Enforcement of anti-discrimination and HIPAA requirements pertaining to availability and access to COVID-19 care and treatment

• Assistance to individuals and families experiencing disproportionate economic or health effects from COVID-19

• Training and placement of contact tracers and other workers

• Outreach related to vaccine trust and uptake, public health measures/prevention, testing, or other mitigation measure

III. Questions

• What specific best practices in the areas listed below should be included in federal guidance? Please describe the best practice(s), evidence of its effectiveness, and how it has been applied (or could be applied) to COVID-19 response activities.

○ Advancing cultural competency toward AAPIs

○ Advancing language access for AAPIs

○ Advancing sensitivity toward AAPIs

○ Mitigating racially discriminatory language against AAPIs

○ Practices that apply the National Standards for Culturally and Linguistically Appropriate Services in Health and Health Care (National CLAS Standards).

• What sources/resources should HHS use to identify additional best practices in these areas?

• What considerations should be made in the content, audiences and format for best practices guidance products, particularly to support implementation?

• How should the best practices guidance be disseminated (e.g., mechanisms, audiences)?

• Beyond issuing best practices guidance, how can HHS support implementation of the best practices?

Dated: July 12, 2021.
Juliet Bui,
Public Health Advisor, Office of Minority Health.

[FR Doc. 2021-15168 Filed 7-15-21; 8:45 am]

BILLING CODE 4150-29-P